DEPARTMENT OF LABOR

Employment and Training Administration

[TA-W-54,955]

Phoenix Lace Cutting, Inc., North Bergen, NJ; Notice of Termination of Investigation

Pursuant to section 221 of the Trade Act of 1974, an investigation was initiated on May 21, 2004 in response to a worker petition which was filed by the New Jersey Trade Coordinator on behalf of workers at Phoenix Lace Cutting, Inc., North Bergen, New Jersey.

The petitioner has requested that the petition be withdrawn. Consequently, the investigation has been terminated.

Signed in Washington, DC this 29th day of June, 2004.
Richard Church,
Certifying Officer, Division of Trade Adjustment Assistance.

[FR Doc. 04-16295 Filed 7-16-04; 8:45 am]

BILLING CODE 4510-30-P